DEPARTMENT OF ENERGY

Federal Energy Regulatory Commission

Combined Notice of Filings #1

Take notice that the Commission received the following exempt wholesale generator filings:

Docket Numbers: EG23-246-000.

Applicants: Shamrock Wind, LLC.

Description: Shamrock Wind, LLC submits Notice of Self—Certification of Exempt Wholesale Generator Status.

Filed Date: 8/4/23.

Accession Number: 20230804-5038.

Comment Date: 5 p.m. ET 8/25/23.

Docket Numbers: EG23-247-000.

Applicants: Pioneer Hutt Wind Energy LLC.

Description: Pioneer Hutt Wind Energy LLC submits Notice of Self—Certification of Exempt Wholesale Generator Status.

Filed Date: 8/4/23.

Accession Number: 20230804-5065.

Comment Date: 5 p.m. ET 8/25/23.

Take notice that the Commission received the following electric rate filings:

Docket Numbers: ER10-1529-006; ER10-2472-009; ER10-2473-009; ER10-2502-010; ER11-2724-010; ER11-4436-008; ER18-2518-005; ER19-645-004.

Applicants: Black Hills Colorado Wind, LLC, Black Hills Electric Generation, LLC, Black Hills Power, Inc., Black Hills Colorado IPP, LLC, Black Hills Colorado Electric, LLC, Cheyenne Light, Fuel and Power Company, Black Hills Wyoming, LLC, Northern Iowa Windpower, LLC.

Description: Supplement to January 31, 2023, Notice of Non-Material Change in Status of Northern Iowa Windpower, LLC, et al.

Filed Date: 8/1/23.

Accession Number: 20230801-5224.

Comment Date: 5 p.m. ET 8/22/23.

Docket Numbers: ER23-1832-000.

Applicants: Homer City Generation, L.P.

Description: Refund Report: Refund Notice in ER23-1832 to be effective N/A.

Filed Date: 8/4/23.

Accession Number: 20230804-5101.

Comment Date: 5 p.m. ET 8/25/23.

Docket Numbers: ER23-2436-001.

Applicants: Energy Harbor LLC.

Description: Tariff Amendment: Amendment to Requested Effective Date for Notice of Cancellation of Market-Based to be effective 8/1/2023.

Filed Date: 8/4/23.

Accession Number: 20230804-5094.

Comment Date: 5 p.m. ET 8/25/23.

Docket Numbers: ER23-2560-000.

Applicants: PJM Interconnection, L.L.C.

Description: § 205(d) Rate Filing: Original ISA, Service Agreement No. 7020; Queue Nos. AE1-209/AE1-210 to be effective 7/5/2023.

Filed Date: 8/4/23.

Accession Number: 20230804-5003.

Comment Date: 5 p.m. ET 8/25/23.

Docket Numbers: ER23-2561-000.

Applicants: PJM Interconnection, L.L.C.

Description: § 205(d) Rate Filing: Amendment to ISA, SA No. 6189; Queue No. AD2-009 (amend) to be effective 10/4/2023.

Filed Date: 8/4/23.

Accession Number: 20230804-5009.

Comment Date: 5 p.m. ET 8/25/23.

Docket Numbers: ER23-2562-000.

Applicants: Merelec USA LLC.

Description: Baseline eTariff Filing: Petition for Blanket MBR Authorization with Waivers to be effective 10/3/2023.

Filed Date: 8/4/23.

Accession Number: 20230804-5035.

Comment Date: 5 p.m. ET 8/25/23.

Docket Numbers: ER23-2563-000.

Applicants: PJM Interconnection, L.L.C.

Description: § 205(d) Rate Filing: WMPA, Service Agreement No. 7005; Queue No. AG1-099 to be effective 10/2/2023.

Filed Date: 8/4/23.

Accession Number: 20230804-5037.

Comment Date: 5 p.m. ET 8/25/23.

Docket Numbers: ER23-2564-000.

Applicants: Virginia Electric and Power Company, PJM Interconnection, L.L.C.

Description: § 205(d) Rate Filing: Virginia Electric and Power Company submits tariff filing per 35.13(a)(2)(iii: VEPCO submits one WDSA, SA No. 7018 to be effective 7/6/2023.

Filed Date: 8/4/23.

Accession Number: 20230804-5064.

Comment Date: 5 p.m. ET 8/25/23.

Docket Numbers: ER23-2565-000.

Applicants: PJM Interconnection, L.L.C.

Description: § 205(d) Rate Filing: Original NSA, Service Agreement No. 7045; Queue No. AD2-093 to be effective 10/3/2023.

Filed Date: 8/4/23.

Accession Number: 20230804-5066.

Comment Date: 5 p.m. ET 8/25/23.

Docket Numbers: ER23-2566-000.

Applicants: Pleasants LLC.

Description: Tariff Amendment: Notice of Cancellation of Market-Based Rate Tariff to be effective 8/7/2023.

Filed Date: 8/4/23.

Accession Number: 20230804-5069.

Comment Date: 5 p.m. ET 8/25/23.

Docket Numbers: ER23-2567-000.

Applicants: EnerSmart Los Coches BESS LLC.

Description: Baseline eTariff Filing: Application for Market-Based Rate Authorization and Request for Waivers to be effective 10/4/2023.

Filed Date: 8/4/23.

Accession Number: 20230804-5080.

Comment Date: 5 p.m. ET 8/25/23.

Docket Numbers: ER23-2568-000.

Applicants: Duke Energy Carolinas, LLC.

Description: § 205(d) Rate Filing: DEC-CPRE Wholesale Contract Revisions to Rate Schedule No. 336 to be effective 1/1/2023.

Filed Date: 8/4/23.

Accession Number: 20230804-5081.

Comment Date: 5 p.m. ET 8/25/23.

Docket Numbers: ER23-2569-000.

Applicants: Pacific Gas and Electric Company.

Description: Tariff Amendment: Termination of PG&E Southern Oaks and Mission Ranch UOGs (SA Nos. 448 and 449) to be effective 10/4/2023.

Filed Date: 8/4/23.

Accession Number: 20230804-5086.

Comment Date: 5 p.m. ET 8/25/23.

Docket Numbers: ER23-2570-000.

Applicants: PJM Interconnection, L.L.C.

Description: § 205(d) Rate Filing: Original ISA/CSA, Service Agreement Nos. 5564 and 5565; Queue No AA2-161/AE2-137 to be effective 10/4/2023.

Filed Date: 8/4/23.

Accession Number: 20230804-5103.

Comment Date: 5 p.m. ET 8/25/23.

Docket Numbers: ER23-2571-000.

Applicants: PJM Interconnection, L.L.C.

Description: § 205(d) Rate Filing: Original ISA, Service Agreement No. 7008; Queue No. AG1-191 to be effective 7/5/2023.

Filed Date: 8/4/23.

Accession Number: 20230804-5130.

Comment Date: 5 p.m. ET 8/25/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: August 4, 2023.
Debbie-Anne A. Reese,
Deputy Secretary.

[FR Doc. 2023-17153 Filed 8-9-23; 8:45 am]

BILLING CODE 6717-01-P